DEPARTMENT OF COMMERCE

Office of the Secretary

13 CFR Ch. III

15 CFR Subtitle A; Subtitle B, Chs. I, II, III, VII, VIII, IX, and XI

19 CFR Ch. III

37 CFR Chs. I, IV, and V

48 CFR Ch. 13

50 CFR Chs. II, III, IV, and VI

Spring 2025 Semiannual Agenda of Regulations

AGENCY: Office of the Secretary, Commerce.

ACTION: Semiannual Regulatory Agenda.

SUMMARY: In compliance with Executive Order 12866, entitled “Regulatory Planning and Review,” and the Regulatory Flexibility Act, as amended, the Department of Commerce (Commerce), in the spring and fall of each year, publishes in the Federal Register an agenda of regulations under development or review over the next 12 months. Rulemaking actions are grouped according to pre-rulemaking, proposed rules, final rules, long-term actions, and rulemaking actions completed since the publication of the Fall 2024 Unified Agenda.

The purpose of the Agenda is to provide information to the public on regulations that are currently under review, being proposed, or recently issued by Commerce. It is expected that this information will enable the public to participate more effectively in Commerce's regulatory process.

Commerce's Spring 2025 Unified Agenda includes regulatory activities that are expected to be conducted during the period July 1, 2025, through June 31, 2026.

FOR FURTHER INFORMATION CONTACT:

Specific: For additional information about specific regulatory actions listed in the agenda, contact the individual identified as the contact person.

General: Comments or inquiries of a general nature about the agenda should be directed to Candida Harty, Chief Counsel for Regulation, Office of the Assistant General Counsel for Legislation and Regulation, U.S. Department of Commerce, Washington, DC 20230, telephone: 202-482-3410.

SUPPLEMENTARY INFORMATION: Commerce hereby publishes its Spring 2025 Unified Agenda of Federal Regulatory and Deregulatory Actions pursuant to Executive Order 12866 and the Regulatory Flexibility Act, 5 U.S.C. 601 et seq. Executive Order 12866 requires agencies to publish an agenda of those regulations that are under consideration. By memorandum of March 26, 2025, the Office of Management and Budget issued guidelines and procedures for the preparation and publication of the Spring 2025 Unified Agenda. The Regulatory Flexibility Act requires agencies to publish, in the spring and fall of each year, a regulatory flexibility agenda that contains a brief description of the subject of any rule likely to have a significant economic impact on a substantial number of small entities.

The internet is the basic means for disseminating the Unified Agenda. The complete Unified Agenda is available online at www.reginfo.gov, in a format that offers users a greatly enhanced ability to obtain information from the Agenda database.

A list of Commerce's most important significant regulatory and deregulatory actions and a Statement of Regulatory Priorities are included only in the fall editions of the Unified Agendas and, thus, do not appear in the Spring 2025 Unified Agenda. Because publication in the Federal Register is mandated for the regulatory flexibility agendas required by the Regulatory Flexibility Act, Commerce's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the internet. In addition, for fall editions of the Agenda, Commerce's entire Regulatory Plan will continue to be printed in the Federal Register.

Within Commerce, the Office of the Secretary and various operating units may issue regulations. Among these operating units, the National Oceanic and Atmospheric Administration (NOAA), the Bureau of Industry and Security, and the Patent and Trademark Office issue the greatest share of Commerce's regulations. In addition to regulations promulgated by NOAA, BIS, and PTO, this issue also includes regulations to be promulgated by, or that have been published and completed since the Fall 2024 Unified Agenda by, the International Trade Administration (ITA), the U.S. Census Bureau (CENSUS), the National Institute of Standards and Technology (NIST), the National Telecommunications and Information Administration (NTIA), the U.S. Economic Development Administration (EDA), and the Office of the Secretary (OS).

Commerce's Spring 2025 Unified Agenda follows.

John Guenther,
Performing the Non-Exclusive Duties of the General Counsel.

General Administration—Long-Term Actions
Sequence No. | Title | Regulation Identifier No.
17 | Securing the Information and Communications Technology and Services Supply Chain | 0605-AA51
18 | Securing the Information and Communications Technology and Services Supply Chain: Licensing Procedures | 0605-AA60

Bureau of Industry and Security—Final Rule Stage
Sequence No. | Title | Regulation Identifier No.
19 | Securing the Information and Communications Technology and Services Supply Chain: Networking Equipment and Services in Data Centers | 0694-AK23

Bureau of Industry and Security—Long-Term Actions
Sequence No. | Title | Regulation Identifier No.
20 | Taking Additional Steps to Address the National Emergency With Respect to Significant Malicious Cyber-Enabled Activities | 0694-AJ35

National Oceanic and Atmospheric Administration—Proposed Rule Stage
Sequence No. | Title | Regulation Identifier No.
21 | Seafood Import Permitting and Reporting Procedures | 0648-BK85
22 | Amendment 125 to the Bering Sea and Aleutian Islands Fishery Management Plan; Pacific Cod Small Boat Access | 0648-BM64
23 | Atlantic Coastal Fisheries Cooperative Management Act Provisions; American Lobster Fishery Vessel Tracking for the Federal American Lobster Fishery | 0648-BM38
24 | Framework Adjustment 69 to the Northeast Multispecies Fishery Management Plan | 0648-BN23
25 | Atlantic Highly Migratory Species; Amendment 16 to the 2006 Consolidated Atlantic Highly Migratory Species Fishery Management Plan | 0648-BM08
26 | Atlantic Highly Migratory Species; Revisions to Commercial Atlantic Blacknose and Recreational Atlantic Shark Fisheries | 0648-BM88
27 | Atlantic Highly Migratory Species; Demersal and Pelagic Indicator Species | 0648-BN27
28 | Atlantic Highly Migratory Species; Revisions to Fishing Gear Regulations | 0648-BN52
29 | Atlantic Highly Migratory Species; Prohibition on Retention of Mobulid Rays | 0648-BN53
30 | Adjustment of North Atlantic Albacore, North Atlantic Swordfish, South Atlantic Swordfish, and Atlantic Bluefin Tuna Quotas | 0648-BN60
31 | Atlantic Highly Migratory Species; Revision of the Expiration Date for Swordfish and Shark Limited Access Permits | 0648-BN68
32 | Atlantic Highly Migratory Species; Complementary Regional Fishery Management Council Area Closures | 0648-BN71
33 | Pacific Island Fisheries; Omnibus Amendment to the Fishery Ecosystem Plans of the Pacific Islands Region; Aquaculture Management Program | 0648-BN24
34 | Cordell Bank Groundfish Conservation Area Revisions | 0648-BN95

National Oceanic and Atmospheric Administration—Final Rule Stage
Sequence No. | Title | Regulation Identifier No.
35 | Designation of Critical Habitat for Threatened Indo-Pacific Reef-Building Corals | 0648-BJ52
36 | Designation of Critical Habitat for Rice's Whale Under the Endangered Species Act | 0648-BL86
37 | Rescinding the Definition of “Harm” under the Endangered Species Act | 0648-BN93
38 | Recreational Quota Entity Program Fee Collection | 0648-BN18
39 | 2025 Black Sea Bass Recreational Management Measures | 0648-BN51
40 | Atlantic Highly Migratory Species; Electronic Reporting Requirements | 0648-BM23
41 | Secretarial Amendment to the Fishery Management Plan for the Snapper-Grouper Fishery of the South Atlantic Region to End Overfishing of Red Snapper | 0648-BN31
42 | Amendment 34 to the Pacific Coast Groundfish Fishery Management Plan—Coral Research and Restoration | 0648-BN15
43 | Magnuson-Stevens Act Provisions; Fisheries Off West Coast States; Pacific Coast Groundfish Fishery; 2025 Harvest Specifications for Pacific Whiting, and 2025 Pacific Whiting Tribal Allocation | 0648-BN47

National Oceanic and Atmospheric Administration—Long-Term Actions
Sequence No. | Title | Regulation Identifier No.
44 | Endangered and Threatened Wildlife and Plants; Protective Regulations for the Oceanic Whitetip Shark (Carcharhinus longimanus) | 0648-BM49
45 | Endangered and Threatened Wildlife and Plants; Protective Regulations for the Giant Manta Ray (Mobula birostris) | 0648-BN07
46 | Magnuson-Stevens Fisheries Conservation and Management Act; Traceability Information Program for Seafood | 0648-BH87
47 | Atlantic Highly Migratory Species; Research and Data Collection in Support of Spatial Fisheries Management | 0648-BI10
48 | International Fisheries; South Pacific Tuna Fisheries; Implementation of Amendments to the South Pacific Tuna Treaty | 0648-BG04
49 | International Fisheries; Western and Central Pacific Fisheries for Highly Migratory Species; Fishing Effort Limits in Purse Seine Fisheries | 0648-BL25
50 | Limiting Gear Switching in the Pacific Coast Groundfish Shorebased Individual Fishing Quota Program | 0648-BN56

National Oceanic and Atmospheric Administration—Completed Actions
Sequence No. | Title | Regulation Identifier No.
51 | Amendments to the North Atlantic Right Whale Vessel Strike Reduction Rule | 0648-BI88
52 | Establishment of Time-Area Closures for Hawaiian Spinner Dolphins Under the Marine Mammal Protection Act | 0648-BK04
53 | Illegal, Unreported, and Unregulated Fishing; Fisheries Enforcement; High Seas Driftnet Fishing Moratorium Protection Act | 0648-BG11
54 | Notice of Proposed Rulemaking for the Designation Pacific Remote Islands National Marine Sanctuary | 0648-BM52

Patent and Trademark Office—Proposed Rule Stage
Sequence No. | Title | Regulation Identifier No.
55 | Setting and Adjusting Patent Fees | 0651-AD88

Patent and Trademark Office—Completed Actions
Sequence No. | Title | Regulation Identifier No.
56 | Setting and Adjusting Patent Fees During Fiscal Year 2025 | 0651-AD64

Department of Commerce (DOC): General Administration (ADMIN) | Long-Term Actions

17. SECURING THE INFORMATION AND COMMUNICATIONS TECHNOLOGY AND SERVICES SUPPLY CHAIN [0605-AA51]

Legal Authority: 50 U.S.C. 1701; 3 U.S.C. 301; 50 U.S.C. 1601; E.O. 13873; E.O. 14034

Abstract: Pursuant to Executive Order 13873 of May 15,2019,”Securing the Information and Communications Technology and Services Supply Chain” and Executive Order 14034 of June 9, 2021, Protecting Americans' Sensitive Data From Foreign Adversaries,” the Department of Commerce finalized the rule that sets forth the process and procedures that the Secretary of Commerce will use to identify, assess, and address transactions that pose an undue risk to the security, integrity, and reliability of information and communications technology and services provided and used in the United States. The final rule became effective on February 4, 2025.

Timetable:

Action | Date | FR Cite
NPRM | 11/27/19 | 84 FR 65316
NPRM Comment Period End | 12/27/19
Interim Final Rule | 01/19/21 | 86 FR 4909
Interim Final Rule Comment Period End | 03/22/21
Interim Final Rule Effective Date | 03/22/21
Final Action | 12/06/24 | 89 FR 96872
Final Action Effective | 02/04/25
Next Action Undetermined | 12/00/26

Regulatory Flexibility Analysis Required: Yes

Agency Contact: Kellen Moriarty

Phone: 202 482-1329

RIN: 0605-AA51

18. SECURING THE INFORMATION AND COMMUNICATIONS TECHNOLOGY AND SERVICES SUPPLY CHAIN: LICENSING PROCEDURES [0605-AA60]

Legal Authority: 50 U.S.C. 1701; 3 U.S.C. 301; 50 U.S.C. 1601; E.O. 13873; E.O. 14034

Abstract: The Department is seeking public input regarding establishing a licensing process for entities to seek pre-approval before engaging in or continuing to engage in potentially regulated information and communications technology and services (ICTS) transactions under 15 CFR part 791.

Timetable:

Action | Date | FR Cite
ANPRM | 03/29/21 | 86 FR 16312
ANPRM Comment Period End | 04/28/21
NPRM | 12/00/26

Regulatory Flexibility Analysis Required: Yes

Agency Contact: Kellen Moriarty

Phone: 202 482-1329

RIN: 0605-AA60

Department of Commerce (DOC): Bureau of Industry and Security (BIS) | Final Rule Stage

19. • SECURING THE INFORMATION AND COMMUNICATIONS TECHNOLOGY AND SERVICES SUPPLY CHAIN: NETWORKING EQUIPMENT AND SERVICES IN DATA CENTERS [0694-AK23]

Legal Authority: 50 U.S.C. 1701; 50 U.S.C. 1601; 3 U.S.C. 301; E.O. 13873

Abstract: In this interim final rule (IFR), the Bureau of Industry and Security (BIS) will implement controls to address risks to national security and U.S. persons posed by certain transactions involving classes of information and communications technology and services (ICTS) supplied by entities under the ownership or control of, or subject to the jurisdiction or direction of, a foreign adversary, pursuant to Executive Order 13873 and the procedures set out in subsequent rulemaking. BIS has determined that entities under the ownership or control of, or subject to the jurisdiction or direction of, a foreign adversary which deal in, install, or service networking equipment and services in data centers present undue or unacceptable risks to national security and U.S. persons.

Timetable:

Action | Date | FR Cite
Interim Final Rule | 08/00/25

Regulatory Flexibility Analysis Required: Yes

Agency Contact: Marc Coldiron, Department of Commerce, Bureau of Industry and Security, 1401 Constitution Avenue NW, Washington, DC 20230

Phone: 202 482-3678

Email: marc.coldiron@bis.doc.gov

RIN: 0694-AK23

Department of Commerce (DOC): Bureau of Industry and Security (BIS) | Long-Term Actions

20. TAKING ADDITIONAL STEPS TO ADDRESS THE NATIONAL EMERGENCY WITH RESPECT TO SIGNIFICANT MALICIOUS CYBER-ENABLED ACTIVITIES [0694-AJ35]

Legal Authority: 50 U.S.C. 1701 et seq.; 50 U.S.C. 1601 et seq.; E.O. 13873; E.O. 13984

Abstract: Executive Order 13984 of January 19, 2021, Taking Additional Steps To Address the National Emergency With Respect to Significant Malicious Cyber-Enabled Activities, (E.O. 13984) directs the Secretary of Commerce (Secretary) to propose regulations requiring certain providers and resellers of certain Infrastructure as a Service (IaaS) products to verify the identity of their foreign customers permitting the Secretary, in consultation with Secretary of Defense, the Attorney General, the Secretary of Homeland Security, and the Director of National Intelligence, to grant exemptions to the verification requirement; and authorizing the Secretary to impose special measures on providers with regard to certain foreign jurisdictions or foreign persons. The Department of Commerce is assessing public comments from its January 29, 2024, notice of proposed rulemaking (NPRM) to E.O. 13984.

Timetable:

Action | Date | FR Cite
NPRM | 01/29/24 | 89 FR 5698
NPRM Comment Period End | 04/29/24
Final Action | 12/00/26

Regulatory Flexibility Analysis Required: Yes

Agency Contact: Marc Coldiron

Phone: 202 482-3678

Email: marc.coldiron@bis.doc.gov

RIN: 0694-AJ35

Department of Commerce (DOC): National Oceanic and Atmospheric Administration (NOAA) | Proposed Rule Stage

NATIONAL MARINE FISHERIES SERVICE

21. SEAFOOD IMPORT PERMITTING AND REPORTING PROCEDURES [0648-BK85]

Legal Authority: 16 U.S.C. 1801 et seq.

Abstract: Following consideration of any necessary revisions or recessions as directed by E.O. 14276 Restoring American Seafood Competitiveness, NMFS may amend the regulations that require seafood import documentation under the Magnuson-Stevens Fishery Conservation and Management Act (16 U.S.C. 1801 et seq.). The statute prohibits the importation of seafood that was harvested in violation of foreign laws, any treaty, or binding conservation measures of regional fisheries organizations to which the United States is a party. The import permitting, reporting and recordkeeping regulations facilitate enforcement of the statutory prohibition. To ensure compliance with the import monitoring program, NMFS may clarify what qualifies as the U.S. resident business address of the International Fisheries Trade Permit holder and the permit holder's obligation to ensure timely access to and production of the required supply chain records in the event of an audit NMFS may also consider changes to species included under the program if they are necessary to improve the program. U.S. seafood importers may be affected by this rulemaking through increased reporting and recordkeeping requirements, but NOAA estimates the economic impact will be small because documentation is already completed, transmitted through the supply chain, and available to importers.

Timetable:

Action | Date | FR Cite
NPRM | 12/28/22 | 87 FR 79836
NPRM Comment Period End | 03/28/23
NPRM Comment Period Extension | 03/31/23 | 88 FR 19236
NPRM Comment Period Extension End | 04/27/23
NPRM; Withdrawn | 11/16/23 | 88 FR 78714
Second NPRM | 12/00/25

Regulatory Flexibility Analysis Required: Yes

Agency Contact: Alexa Cole, Director, Office of International Affairs, Trade, and Commerce, Department of Commerce, National Oceanic and Atmospheric Administration, 1315 East-West Highway, Silver Spring, MD 20910

Phone: 301 427-8286

Email: alexa.cole@noaa.gov

RIN: 0648-BK85

22. AMENDMENT 125 TO THE BERING SEA AND ALEUTIAN ISLANDS FISHERY MANAGEMENT PLAN; PACIFIC COD SMALL BOAT ACCESS [0648-BM64]

Legal Authority: 16 U.S.C. 1801 et seq.

Abstract: In response to a recommendation by the North Pacific Fishery Management Council, this action would allow smaller hook-and-line or pot catcher vessels operating in the Federal Bering Sea and Aleutian Island (BSAI) Pacific cod (Gadus macrophalus) less than 60' hook-and-line or pot catcher vessel sector to harvest Pacific cod from the BSAI Pacific cod jig sector's allocation. Under the current regulations, the BSAI Pacific cod jig sector only includes jig catcher vessels and catcher processors. The proposed amendment would redefine the current Federal BSAI Pacific cod jig sector to add hook-and-line and pot catcher vessels that are less than or equal to 55' length overall to the current definition. This proposed action is needed because of reduced Pacific cod total allowable catch (TAC), shortened seasons for the less than 60' hook-and-line and pot catcher vessel Pacific cod sector, and the inability of these smaller vessels to compete with larger vessels during poor weather. As such, the proposed action would likely provide a small benefit to a small number of fishery participants (those with smaller vessels). This action could provide stability and additional opportunities for current fishery participants and potential new entrants with smaller hook-and-line or pot catcher vessels without negatively impacting vessels that operate in the jig sector. However, larger hook-and-line or pot vessels could be negatively impacted by the proposed action, which would likely impact the historically common reallocations of projected unused Pacific cod allocation from the jig sector to the less than 60' hook-and-line or pot catcher vessel sector. The authority for this action is Section 304(b)(1)(A) of the Magnuson-Stevens Fishery Conservation and Management Act.

Timetable:

Action | Date | FR Cite
NPRM | 07/00/25

Regulatory Flexibility Analysis Required: Yes

Agency Contact: Jon Kurland, Regional Administrator, Alaska Region, Department of Commerce, National Oceanic and Atmospheric Administration, 709 West Ninth Street, Juneau, AK 99801

Phone: 907 586-7638

Email: jon.kurland@noaa.gov

RIN: 0648-BM64

23. ATLANTIC COASTAL FISHERIES COOPERATIVE MANAGEMENT ACT PROVISIONS; AMERICAN LOBSTER FISHERY VESSEL TRACKING FOR THE FEDERAL AMERICAN LOBSTER FISHERY [0648-BM38]

Legal Authority: 16 U.S.C. 71

Abstract: The Atlantic States Marine Fisheries Commission, the body responsible for the interstate management of the American lobster fishery, recently approved Addendum XXIX to Amendment 3 to the Interstate Fishery Management Plan for American Lobster, which requires electronic tracking of vessels participating in the fishery, with state implementation beginning in 2023. The Commission is made up of representatives from each of the eastern coastal states, including members of the lobster industry, and voted unanimously in support of vessel tracking, which is similar to global positioning system (GPS) capabilities on a cellular/mobile telephone. These data are critical to improving stock assessments, informing discussions and management decisions related to protected species and marine spatial planning, and enhancing offshore enforcement. NOAA Fisheries is proposing complementary Federal regulations under the Atlantic Coastal Fisheries Cooperative Management Act, this would consider revising to regulations under 50 CFR 697.

Timetable:

Action | Date | FR Cite
NPRM | 09/00/25

Regulatory Flexibility Analysis Required: Yes

Agency Contact: Michael Pentony, Regional Administrator, Greater Atlantic Region, Department of Commerce, National Oceanic and Atmospheric Administration, 55 Great Republic Drive, Gloucester, MA 01930

Phone: 978 281-9283

Email: michael.pentony@noaa.gov

RIN: 0648-BM38

24. FRAMEWORK ADJUSTMENT 69 TO THE NORTHEAST MULTISPECIES FISHERY MANAGEMENT PLAN [0648-BN23]

Legal Authority: 16 U.S.C. 1801

Abstract: The proposed action would implement management measures included in Framework Adjustment 69 to the Northeast Multispecies Fishery Management Plan (Framework 69) that were developed by the New England Fishery Management Council in response to new scientific information, pursuant to the rulemaking authorities under section 303(c) and 305(d) of the Magnuson-Stevens Fishery Conservation and Management Act. This action would: Update status determination criteria for groundfish stocks; Set fishing year 2025-2026 total allowable catches (TAC) for the 3 U.S./Canada stocks eastern GB cod, eastern GB haddock, and GB yellowtail flounder; Set annual specifications for fishing years 2025-2027 for EGOM cod, WGOM cod, GB cod, SNE cod, GOM haddock, GB haddock, American plaice, witch flounder, Pollock, and Atlantic halibut; Review GB haddock sub-ACL in the midwater trawl/herring fishery; Potentially revise sub-ACLs and/or the accountability measures triggers for the scallop fishery's flatfish allocations; Remove requirement for sectors to submit federal and state information in sector operations plans; and Address measures as part of cod management transition from two stocks to four.

Timetable:

Action | Date | FR Cite
NPRM | 07/00/25

Regulatory Flexibility Analysis Required: Yes

Agency Contact: Michael Pentony, Regional Administrator, Greater Atlantic Region, Department of Commerce, National Oceanic and Atmospheric Administration, 55 Great Republic Drive, Gloucester, MA 01930

Phone: 978 281-9283

Email: michael.pentony@noaa.gov

RIN: 0648-BN23

25. ATLANTIC HIGHLY MIGRATORY SPECIES; AMENDMENT 16 TO THE 2006 CONSOLIDATED ATLANTIC HIGHLY MIGRATORY SPECIES FISHERY MANAGEMENT PLAN [0648-BM08]

Legal Authority: 16 U.S.C. 1801 et seq.; 16 U.S.C. 971 et seq.

Abstract: NMFS is developing a proposed rule for Amendment 16 to the 2006 Consolidated Atlantic Highly Migratory Species (HMS) Fishery Management Plan (FMP) pursuant to Magnuson-Stevens Fishery Conservation and Management Act (MSA) sections 304(c) and (g). The draft Amendment will include a draft environmental impact statement and other required analyses. Based on the mechanism used in establishing shark quotas and related management measures from Amendment 14 to the 2006 Consolidated HMS FMP, Amendment 16 would modify the acceptable biological catch (ABC) and annual catch limits (ACLs) for Atlantic sharks and the process used to account for carryover of underharvests of quotas. In this action, NMFS would also look at all commercial and recreational management measures related to the Atlantic shark fishery and make appropriate revisions. Amendment 16 would affect the bottom longline, gillnet, and pelagic longline fisheries, which fish for sharks throughout the entire range of the fishery (Atlantic Ocean, Gulf of America, and Caribbean Sea). The Agency's proposed actions for this rule will be based in part on feedback and public comments received on the issues and options paper. The comment period ended in August 2023. The comments received to date provide helpful feedback on the potential issues and ways forward. This rulemaking originated, in part, as a result of numerous requests from the public to expand opportunities for shark fishing. As a result of public comment received during scoping, we are reconsidering the scope of the measures needed for this rulemaking and may break out into some smaller actions into separate rulemakings.

Timetable:

Action | Date | FR Cite
Notice of Intent | 05/08/23 | 88 FR 29617
Notice of Intent Comment Period End | 08/18/23
NPRM | 01/00/26

Regulatory Flexibility Analysis Required: Yes

Agency Contact: Kelly Denit, Director, Office of Sustainable Fisheries, Department of Commerce, National Oceanic and Atmospheric Administration, 1315 East-West Highway, Room 13362, Silver Spring, MD 20901

Phone: 301 427-8500

Email: kelly.denit@noaa.gov

RIN: 0648-BM08

26. ATLANTIC HIGHLY MIGRATORY SPECIES; REVISIONS TO COMMERCIAL ATLANTIC BLACKNOSE AND RECREATIONAL ATLANTIC SHARK FISHERIES [0648-BM88]

Legal Authority: 16 U.S.C. 1801 et seq.

Abstract: The National Marine Fisheries Service, on behalf of the Secretary of Commerce, is responsible for managing Atlantic highly migratory species (HMS) pursuant to the Magnuson-Stevens Fishery Conservation and Management Act, 16 U.S.C. 1801 et seq., and consistent with the Atlantic Tunas Convention Act (ATCA), id. 971 et seq. This proposed rule would consider options to: (1) remove the Atlantic blacknose shark management boundary in the Atlantic region, (2) modify the commercial retention limit for blacknose sharks in the Atlantic region, (3) revise the recreational minimum size limits for authorized Atlantic shark species, and (4) revise the recreational bag limits for some authorized Atlantic shark species. This proposed rule would also remove commercial management group quota linkages, consistent with management measures established in Amendment 14 to the 2006 Consolidated HMS Fishery Management Plan (88 FR 4157, January 24, 2023). This action would affect the commercial and recreational Atlantic shark fisheries in the Atlantic Ocean, Gulf of America, and Caribbean Sea. In 2021, ex-vessel revenues for the entire Atlantic shark fishery totaled approximately $2.6 million. This action is being taken pursuant to the rulemaking authority under section 304(g) of the Magnuson-Stevens Fishery Conservation and Management Act. 16 U.S.C. 1854(c). This rulemaking originated in part based on public comments received during scoping for Amendment 16 (0648-BM08). The comments expressed a need to provide additional flexibility in the regulations to allow for additional shark harvest while also being mindful of rebuilding overfished stock and preventing overfishing, consistent with the Magnuson-Stevens Act.

Timetable:

Action | Date | FR Cite
NPRM | 07/00/25

Regulatory Flexibility Analysis Required: Yes

Agency Contact: Kelly Denit, Director, Office of Sustainable Fisheries, Department of Commerce, National Oceanic and Atmospheric Administration, 1315 East-West Highway, Room 13362, Silver Spring, MD 20901

Phone: 301 427-8500

Email: kelly.denit@noaa.gov

RIN: 0648-BM88

27. ATLANTIC HIGHLY MIGRATORY SPECIES; DEMERSAL AND PELAGIC INDICATOR SPECIES [0648-BN27]

Legal Authority: 16 U.S.C. 1801 et seq.; 16 U.S.C. 971 et seq.

Abstract: The National Marine Fisheries Service (NMFS), on behalf of the Secretary of Commerce, is responsible for managing Atlantic highly migratory species (HMS) pursuant to the Magnuson-Stevens Fishery Conservation and Management Act and consistent with the Atlantic Tunas Convention Act (ATCA), the implementing statute for binding recommendations of the International Commission for the Conservation of Atlantic Tunas. NMFS is considering changes to regulations regarding demersal and pelagic indicator species in the HMS pelagic and bottom longline fisheries in order to increase flexibility and remove inefficiencies while still achieving fishery management and conservation goals. Currently, to be considered a pelagic longline vessel when fishing in a bottom longline closed area, no more than five percent (by weight) of the species possessed or landed may be demersal indicator species, as measured relative to the total weight of all pelagic and demersal indicator species. Likewise, to be considered a bottom longline vessel when fishing in a pelagic longline closed area, no more than five percent (by weight) of the species possessed or landed may be pelagic indicator species, as measured relative to the total weight of all pelagic and demersal indicator species. While these management measures helped achieve fishery management and conservation goals in the past, the measures may no longer be necessary due to changes in fishery monitoring methods and fishing techniques. In addition, the indicator species lists may be outdated given the many changes in species distributions, fishing gears, fishing techniques, market conditions, and fishing interests that have occurred over the years. This action could affect the pelagic longline and bottom longline fisheries, which target swordfish, BAYS tunas (bigeye, albacore, yellowfin, and skipjack), and sharks throughout the entire range of the fisheries (Atlantic Ocean, Gulf of America, and Caribbean Sea). In 2021, the swordfish, tunas, and sharks fisheries across all regions and gear types had ex-vessel revenues of approximately $40.1 million, of which approximately 56 percent was associated with pelagic longline gear and 3 percent from bottom longline gear. This action is being taken pursuant to the rulemaking authority under section 304(g) of the Magnuson-Stevens Fishery Conservation and Management Act. This proposed rule takes into account public comments from the Fall 2021 HMS Advisory Panel meeting and continued public requests to modify the HMS regulations regarding demersal and pelagic indicator” species in the HMS pelagic and bottom longline fisheries. We plan to hold public hearings on the proposed rule this year and engage with advisory bodies and fishery management councils on this action.

Timetable:

Action | Date | FR Cite
NPRM | 08/00/25

Regulatory Flexibility Analysis Required: Yes

Agency Contact: Kelly Denit, Director, Office of Sustainable Fisheries, Department of Commerce, National Oceanic and Atmospheric Administration, 1315 East-West Highway, Room 13362, Silver Spring, MD 20901

Phone: 301 427-8500

Email: kelly.denit@noaa.gov

RIN: 0648-BN27

28. • ATLANTIC HIGHLY MIGRATORY SPECIES; REVISIONS TO FISHING GEAR REGULATIONS [0648-BN52]

Legal Authority: 16 U.S.C. 1801 et seq.; 16 U.S.C. 971 et seq.

Abstract: The National Marine Fisheries Service (NMFS), on behalf of the Secretary of Commerce, is responsible for managing Atlantic highly migratory species (HMS) pursuant to the Magnuson-Stevens Fishery Conservation and Management Act, 16 U.S.C. 1801 et seq., and consistent with the Atlantic Tunas Convention Act (ATCA), id. 971 et seq., the implementing statute for binding recommendations of the International Commission for the Conservation of Atlantic Tunas. NMFS is considering changes to fishing gear regulations and requirements in fisheries targeting HMS. These regulations and requirements were originally developed to achieve fishery management and conservation goals, but may have become outdated due to changes in species distributions, fishing gear technology, fishing techniques, market conditions, and fishing interests. These outdated regulations may be limiting fishing opportunities, which in turn may affect the ability to achieve optimum yield from the fisheries. This action would consider changes to fishing gear regulations in HMS fisheries in order to increase flexibility and remove inefficiencies while still achieving fishery management and conservation goals. This action could affect the commercial buoy gear and speargun fisheries, which fish for swordfish, bigeye, albacore, yellowfin, and skipjack tunas, and sharks throughout the entire range of the fishery (Atlantic Ocean, Gulf of America, and Caribbean Sea). In 2021, these fisheries across all regions and gear types had ex-vessel revenues of approximately $27.8 million of which the specific gears affected by this action are only a small portion. This action may also consider overarching changes to increase flexibility regarding how bait can be collected in all HMS fisheries. This action is being taken pursuant to the rulemaking authority under 304(g)(1) of the Magnuson-Stevens Fishery Conservation and Management Act or 16 U.S.C. 1854(c).

Timetable:

Action | Date | FR Cite
NPRM | 08/00/25

Regulatory Flexibility Analysis Required: Yes

Agency Contact: Kelly Denit, Director, Office of Sustainable Fisheries, Department of Commerce, National Oceanic and Atmospheric Administration, 1315 East-West Highway, Room 13362, Silver Spring, MD 20901

Phone: 301 427-8500

Email: kelly.denit@noaa.gov

RIN: 0648-BN52

29. • ATLANTIC HIGHLY MIGRATORY SPECIES; PROHIBITION ON RETENTION OF MOBULID RAYS [0648-BN53]

Legal Authority: 16 U.S.C. 1801 et seq.; 16 U.S.C. 971 et seq.

Abstract: The National Marine Fisheries Service (NMFS), on behalf of the Secretary of Commerce, is responsible for managing Atlantic highly migratory species (HMS) pursuant to the Magnuson-Stevens Fishery Conservation and Management Act, 16 U.S.C. 1801 et seq., and consistent with the Atlantic Tunas Convention Act (ATCA), id. 971 et seq., the implementing statute for binding recommendations of the International Commission for the Conservation of Atlantic Tunas (ICCAT). NMFS is considering changes to regulations to implement ICCAT Recommendation 24-12, adopted in 2024. Recommendation 24-12 requires that the United States and other ICCAT parties prohibit retaining on board, transhipping, landing or storing any part or whole carcass of all species of mobulid rays (family Mobulidae) as listed in Recommendation 19-01 and taken in the Convention area in association with ICCAT fisheries. Recommendation 19-01 lists the following seven species of mobulid rays: Mobula alfredi, M. birostris (giant manta), M. hypostoma (lesser devil ray), M. japonica, M. mobular (devil fish), M. tarapacana (Chilean devil ray), and M. thurstoni (smoothtail mobula). Further, Recommendation 24-12 requires that vessels promptly release unharmed, to the extent practicable, mobulid rays as soon as they are seen in the net, on the hook, or at the vessel, in a manner that shall result in the least possible harm to the individual. This action is not expected to have an economic impact on HMS fisheries, as these fisheries do not target or retain mobulid rays. In 2022, HMS fisheries across all regions and gear types had ex-vessel revenues of approximately $41.1 million. This action is being taken pursuant to the rulemaking authority under section 971d of ATCA, 16 U.S.C. 971d, and section 305(d) of the Magnuson-Stevens Fishery Conservation and Management Act, 16 U.S.C. 1855(d).

Timetable:

Action | Date | FR Cite
NPRM | 07/00/25

Regulatory Flexibility Analysis Required: Yes

Agency Contact: Kelly Denit, Director, Office of Sustainable Fisheries, Department of Commerce, National Oceanic and Atmospheric Administration, 1315 East-West Highway, Room 13362, Silver Spring, MD 20901

Phone: 301 427-8500

Email: kelly.denit@noaa.gov

RIN: 0648-BN53

30. • ADJUSTMENT OF NORTH ATLANTIC ALBACORE, NORTH ATLANTIC SWORDFISH, SOUTH ATLANTIC SWORDFISH, AND ATLANTIC BLUEFIN TUNA QUOTAS [0648-BN60]

Legal Authority: 16 U.S.C. 1801 et seq.; 16 U.S.C. 971 et seq.

Abstract: The National Marine Fisheries Service (NMFS), on behalf of the Secretary of Commerce, is responsible for managing Atlantic highly migratory species pursuant to the Magnuson-Stevens Fishery Conservation and Management Act, 16 U.S.C. 1801 et seq., and consistent with the Atlantic Tunas Convention Act, id. 971 et seq., the implementing statute for binding recommendations of the International Commission for the Conservation of Atlantic Tunas (ICCAT). NMFS is developing a rulemaking that would, on a temporary basis: adjust the North Atlantic albacore tuna (northern albacore) annual baseline quota for 2025 with available underharvest of the 2024 adjusted U.S. northern albacore quota; adjust the North and South Atlantic swordfish annual baseline quotas for 2025 with available underharvest of the 2024 adjusted U.S. swordfish quotas and international quota transfers; and augment the 2025 Atlantic bluefin tuna Reserve category quota with available underharvest of the 2024 adjusted U.S. bluefin tuna quota. Existing regulations provide for such adjustments annually in order to extend fishing opportunity, and NMFS takes such action each year when complete catch information for the prior year is available. This rulemaking would also consider changes to allow for the modification of North Atlantic swordfish and bluefin tuna baseline quotas consistent with the management procedures for these species as approved by ICCAT. Regulatory changes in this action would affect the northern albacore fishery in the Atlantic Ocean. Temporary quota adjustments in this action would affect the bluefin tuna, northern albacore, and swordfish fisheries for 2025 in the Atlantic Ocean. Implementation of the management procedures may similarly affect these fisheries in future years. This action is being taken pursuant to the rulemaking authority under section 304(g)(1) of the Magnuson-Stevens Fishery Conservation and Management Act or 16 U.S.C. 1854(c).

Timetable:

Action | Date | FR Cite
NPRM | 07/00/25

Regulatory Flexibility Analysis Required: Yes

Agency Contact: Kelly Denit, Director, Office of Sustainable Fisheries, Department of Commerce, National Oceanic and Atmospheric Administration, 1315 East-West Highway, Room 13362, Silver Spring, MD 20901

Phone: 301 427-8500

Email: kelly.denit@noaa.gov

RIN: 0648-BN60

31. • ATLANTIC HIGHLY MIGRATORY SPECIES; REVISION OF THE EXPIRATION DATE FOR SWORDFISH AND SHARK LIMITED ACCESS PERMITS [0648-BN68]

Legal Authority: 16 U.S.C. 1801 et seq.

Abstract: The National Marine Fisheries Service (NMFS), on behalf of the Secretary of Commerce, is responsible for managing Atlantic highly migratory species pursuant to the Magnuson-Stevens Fishery Conservation and Management Act, 16 U.S.C. 1801 et seq., and consistent with the Atlantic Tunas Convention Act, id. 971 et seq., the implementing statute for binding recommendations of the International Commission for the Conservation of Atlantic Tunas. Limited access permits for the U.S. Atlantic swordfish and shark fisheries were implemented in 1999 with the goals of rationalizing the fishing capacity with the available quota and reducing latent effort. As part of achieving those goals, these permits were implemented with an annual renewal time period, and permits that were not renewed within one year of expiring became invalid. Since implementation, NMFS has seen a significant decrease in the number of valid swordfish and shark limited access permits. To help address this decline, NMFS is developing a proposed rule that considers modifications to the regulations that currently prevent swordfish and shark limited access permits from being renewed when the permit was not renewed within a year of its expiration date.

Timetable:

Action | Date | FR Cite
NPRM | 08/00/25

Regulatory Flexibility Analysis Required: Yes

Agency Contact: Kelly Denit, Director, Office of Sustainable Fisheries, Department of Commerce, National Oceanic and Atmospheric Administration, 1315 East-West Highway, Room 13362, Silver Spring, MD 20901

Phone: 301 427-8500

Email: kelly.denit@noaa.gov

RIN: 0648-BN68

32. • ATLANTIC HIGHLY MIGRATORY SPECIES; COMPLEMENTARY REGIONAL FISHERY MANAGEMENT COUNCIL AREA CLOSURES [0648-BN71]

Legal Authority: 16 U.S.C. 1801 et seq.

Abstract: The National Marine Fisheries Service (NMFS), on behalf of the Secretary of Commerce, is responsible for managing Atlantic highly migratory species (HMS) pursuant to the Magnuson-Stevens Fishery Conservation and Management Act, 16 U.S.C. 1801 et seq., and consistent with the Atlantic Tunas Convention Act, id. 971 et seq., the implementing statute for binding recommendations of the International Commission for the Conservation of Atlantic Tunas. NMFS is developing a rule that would consider implementing area closures for HMS fisheries that complement area closures for fisheries managed under non-HMS fishery management plans. Some of these closures, for example the ones for bottom longline gear, would be wholly new closures in HMS fisheries. Other area closures, such as those related to the Madison-Swanson and Steamboat Lumps closed areas, could include changes and possibly additional restrictions to existing HMS area closures. The Regional Fishery Management Councils requested that NMFS implement these complementary measures in HMS fisheries to simplify enforcement of protections for bottom habitat and reef species.

Timetable:

Action | Date | FR Cite
NPRM | 10/00/25 |

Regulatory Flexibility Analysis Required: Yes

Agency Contact: Kelly Denit, Director, Office of Sustainable Fisheries, Department of Commerce, National Oceanic and Atmospheric Administration, 1315 East-West Highway, Room 13362, Silver Spring, MD 20901

Phone: 301 427-8500

Email: kelly.denit@noaa.gov

RIN: 0648-BN71

33. PACIFIC ISLAND FISHERIES; OMNIBUS AMENDMENT TO THE FISHERY ECOSYSTEM PLANS OF THE PACIFIC ISLANDS REGION; AQUACULTURE MANAGEMENT PROGRAM [0648-BN24]

Legal Authority: 16 U.S.C. 1801 et seq.

Abstract: The NMFS proposes to amend the Fishery Ecosystem Plans (FEP) for the American Samoa Archipelago, the Hawaii Archipelago, the Marianas Archipelago, the Pacific Remote Island Areas, and the Pelagic Fisheries of the Western Pacific. The amendments would establish a Federal management program for aquaculture fisheries in Federal waters of the U.S. exclusive economic zone of the Pacific Islands Region (PIR) and would include regulations for implementing the program. The intent of the proposed action is to manage commercial aquaculture production in these waters. The Western Pacific Fishery Management Council recommended the amendments recognizing the growing need and desire to develop aquaculture and the possibility of user conflicts and effects to the marine environment. The proposed action would apply to operators of aquaculture facilities in Federal waters of the PIR. NMFS would implement this action pursuant to the rulemaking authority under Section 303(a) of the Magnuson-Stevens Fishery Conservation and Management Act and implement regulations at 50 CFR 600.330(c)(1).

The action would likely result in minor to moderate economic impacts. The impacts of implementing an aquaculture framework would directly affect aquaculture operations by streamlining the permitting process of developing new aquaculture operations. The action could also affect a number of sectors of the economy throughout the PIR, ranging from wild-capture fisheries, near-shore and on-shore aquaculture operations, employment, to seafood markets. However, numerous factors contribute to the uncertainty in forecasting the effects of developing an aquaculture framework, including uncertainty associated with what harvested products would be developed, what specific technology will be used for production, where the facilities will be located. NMFS predicts that, in the first five years that the framework is in place, two operations would operate under the framework as implemented.

Timetable:

Action | Date | FR Cite
NPRM | 09/00/25 |

Regulatory Flexibility Analysis Required: Yes

Agency Contact: Sarah Malloy, Acting Regional Administrator, Pacific Islands Region, Department of Commerce, National Oceanic and Atmospheric Administration, 1845 Wasp Boulevard, Building 176, Honolulu, HI 96818

Phone: 808 725-5000

Email: sarah.malloy@noaa.gov

RIN: 0648-BN24

34. • CORDELL BANK GROUNDFISH CONSERVATION AREA REVISIONS [0648-BN95]

Legal Authority: 16 U.S.C. 1801 et seq.

Abstract: In accordance with a recommendation from the Council, the National Marine Fisheries Service (NMFS) is proposing to open the Cordell Bank Groundfish Conservation Area (GCA) off the coast of central California, and implement a new Groundfish Exclusion Area (GEA) over a portion of the existing GCA footprint to protect sensitive habitat. This action would result in a net opening of approximately 40 square miles of historically important fishing grounds to California fishermen while still protecting sensitive rocky reef habitat in the Cordell Bank area. This action would also decrease regulatory complexity and address enforcement challenges associated with other overlapping closures in the area.

Timetable:

Action | Date | FR Cite
NPRM | 07/00/25 |

Regulatory Flexibility Analysis Required: Yes

Agency Contact: Jennifer Quan, Regional Administrator—West Coast Region, Department of Commerce, National Oceanic and Atmospheric Administration, DC 20230

Phone: 562 980-4001

Email: jennifer.quan@noaa.gov

RIN: 0648-BN95

Department of Commerce (DOC): National Oceanic and Atmospheric Administration (NOAA) | Final Rule Stage

NATIONAL MARINE FISHERIES SERVICE

35. DESIGNATION OF CRITICAL HABITAT FOR THREATENED INDO-PACIFIC REEF-BUILDING CORALS [0648-BJ52]

Legal Authority: 16 U.S.C. 1531 et seq.

Abstract: On November 27, 2020, we, NMFS, published in the Federal Register a proposal to designate 17 island units of critical habitat in the Pacific Islands Region for 7 Indo-Pacific coral species listed under the Endangered Species Act (ESA). Based on public comments and new information regarding the interpretation of the records of the listed corals and application to critical habitat, a substantial revision of the proposed rule is warranted. Accordingly, we withdrew the 2020 proposed rule and published a new proposed rule. We proposed to designate critical habitat for five of the seven coral species that were addressed in the 2020 proposed rule: Acropora globiceps, Acropora retusa, Acropora speciosa, Euphyllia paradivisa, and Isopora crateriformis. Proposed critical habitat includes 16 island units encompassing approximately 251 square kilometers (km2; 97 square miles, mi2) of marine habitat. In the development of the proposed rule, NMFS considered economic, national security, and other relevant impacts of the proposed designations, but we are not excluding any areas from the critical habitat designations due to anticipated impacts.

Timetable:

Action | Date | FR Cite
NPRM | 11/27/20 | 85 FR 76262
NPRM Comment Period End | 01/26/21 |
NPRM Comment Period Extended | 12/23/20 | 85 FR 83899
NPRM Comment Period Extended End | 02/25/21 |
Second NPRM Comment Period Extended | 02/09/21 | 86 FR 8749
Second Comment Period Extended End | 03/27/21 |
Third NPRM Comment Period Extended | 03/29/21 | 86 FR 16325
Third NPRM Comment Period Extended End | 05/26/21 |
Second NPRM | 11/30/23 | 88 FR 83644
Second NPRM Comment Period End | 02/28/24 |
Public Hearing | 12/22/23 | 88 FR 88587
Final Action | 07/00/25 |

Regulatory Flexibility Analysis Required: Yes

Agency Contact: Kim Damon-Randall, Director, Office of Protected Resources, Department of Commerce, National Oceanic and Atmospheric Administration, 1315 East-West Highway, Silver Spring, MD 20910

Phone: 301 427-8400

Email: kimberly.damon-randall@noaa.gov

RIN: 0648-BJ52

36. DESIGNATION OF CRITICAL HABITAT FOR RICE'S WHALE UNDER THE ENDANGERED SPECIES ACT [0648-BL86]

Legal Authority: 16 U.S.C. 1533; 16 U.S.C. 1532

Abstract: Gulf of America Bryde's whales (Balaenoptera edeni) were listed as endangered under the Endangered Species Act (ESA) by the National Marine Fisheries Service (NMFS) effective April 15, 2019 (84 FR 15446). On October 22, 2021, NMFS published a final rule that revised the listing of Gulf of America Bryde's whales to reflect the scientifically accepted taxonomy and nomenclature of the species (86 FR 47022). The revised common name for this species is Rice's whale and the scientific name is Balaenoptera ricei. The ESA requires that critical habitat be designated to the maximum extent prudent and determinable at the time a species is listed (16 U.S.C. 1533(a)(3)(i)). NMFS concluded that critical habitat was not yet determinable for the Rice's whale at the time of listing. However, NMFS indicated that they anticipated critical habitat would be determinable in the future given on-going research. NMFS, therefore, announced in the final listing rule that they would propose critical habitat in a separate rulemaking. This rule finalizes designation of critical habitat for the endangered Rice's whale as one specific area within the Gulf of America that extends from the Texas-Mexico border in the west to the Florida Keys in the east and lies between the 100m and 400m isobaths. NMFS will consult with the Department of Defense to assess any potential national security impacts as a result of the critical habitat designation.

Timetable:

Action | Date | FR Cite
NPRM | 07/24/23 | 88 FR 47453
NPRM Comment Period End | 09/22/23 |
NPRM Comment Period Extension | 10/06/23 | 88 FR 62522
Final Action | 07/00/25 |

Regulatory Flexibility Analysis Required: Yes

Agency Contact: Kim Damon-Randall, Director, Office of Protected Resources, Department of Commerce, National Oceanic and Atmospheric Administration, 1315 East-West Highway, Silver Spring, MD 20910

Phone: 301 427-8400

Email: kimberly.damon-randall@noaa.gov

RIN: 0648-BL86

37. • RESCINDING THE DEFINITION OF “HARM” UNDER THE ENDANGERED SPECIES ACT [0648-BN93]

Legal Authority: 16 U.S.C. 1531 et seq.

Abstract: The U.S. Fish and Wildlife Service (FWS) and the National Marine Fisheries Service (NMFS) (collectively referred to as the Services or we) proposed to rescind the regulatory definition of harm” in our Endangered Species Act (ESA or the Act) regulations. The existing regulatory definition of harm,” which includes habitat modification, runs contrary to the best meaning of the statutory term take.” We are undertaking this change to adhere to the single, best meaning of the ESA.

Timetable:

Action | Date | FR Cite
NPRM | 04/17/25 | 90 FR 16102
NPRM Comment Period End | 05/19/25 |
Final Action | 07/00/25 |

Regulatory Flexibility Analysis Required: Yes

Agency Contact: Kim Damon-Randall, Director, Office of Protected Resources, Department of Commerce, National Oceanic and Atmospheric Administration, 1315 East-West Highway, Silver Spring, MD 20910

Phone: 301 427-8400

Email: kimberly.damon-randall@noaa.gov

RIN: 0648-BN93

38. RECREATIONAL QUOTA ENTITY PROGRAM FEE COLLECTION [0648-BN18]

Legal Authority: 16 U.S.C. 1801 et seq.

Abstract: In response to a recommendation by the North Pacific Fishery Management Council, this proposed action would implement regulations to establish the fee requirement for a Charter Halibut Stamp and (consistent with any applicable legal requirements). The Charter Halibut Stamp will be required for charter vessel anglers 18 years of age or older for each day they intend to harvest halibut on a charter vessel fishing trip in regulatory areas 2C and 3A. This includes charter halibut vessels operated and permitted under the Community Quota Entity and Military Morale and Welfare programs. The Sportfishing Guide Business Owner or their designee (as defined by Alaska Department of Fish and Game) will be responsible for paying all required fees. Charter vessel guides (as defined by NMFS) will be responsible for ensuring there is a validated halibut stamp on the vessel for each angler subject to the fee for each day of halibut fishing. Fee payment and Charter Halibut Stamp validation would need to occur prior to departure prior to the start of each fishing day. The RQE program provides a mechanism for the charter fishery to compensate the commercial IFQ fishery for halibut QS purchased from the commercial sector to increase the charter annual catch limits. The Council stated that the principle objective of the RQE program is to promote social and economic flexibility in the charter fishery under a willing buyer and willing seller approach.

Timetable:

Action | Date | FR Cite
NPRM | 10/31/24 | 89 FR 86772
NPRM Comment Period End | 12/02/24 |
Final Action | 07/00/25 |

Regulatory Flexibility Analysis Required: Yes

Agency Contact: Jon Kurland, Regional Administrator, Alaska Region, Department of Commerce, National Oceanic and Atmospheric Administration, 709 West Ninth Street, Juneau, AK 99801

Phone: 907 586-7638

Email: jon.kurland@noaa.gov

RIN: 0648-BN18

39. • 2025 BLACK SEA BASS RECREATIONAL MANAGEMENT MEASURES [0648-BN51]

Legal Authority: 16 U.S.C. 1801 et seq.

Abstract: NOAA's National Marine Fisheries Service is proposing this action pursuant to the authorities under sections 303(c) and 304(b) of the Magnuson-Stevens Fishery Conservation and Management Act. The Mid-Atlantic Fishery Management Council and the Atlantic States Marine Fisheries Commission jointly manage summer flounder, scup, and black sea bass as a part of the Summer Flounder, Scup, and Black Sea Bass Fishery Management Plan (FMP). At the joint meeting in December 2024, the Council and the Commission's Summer Flounder, Scup, and Black Sea Bass Board recommended 2025 black sea bass recreational management measures. For black sea bass, the Regional Administrator must implement coastwide measures or approve conservation equivalent measures per 50 CFR 648.142(d) as soon as possible following the Council and Commission's recommendation. This action proposed establishing conservation equivalency (i.e., waiving Federal measures in lieu of appropriate state water measures) for the recreational black sea bass fisheries and proposes non-preferred coastwide measures to be effective in Federal waters if, ultimately, we are unable to approve conservation equivalency. This action proposed no changes to the Federal recreational management measures for scup or summer flounder.

Timetable:

Action | Date | FR Cite
NPRM | 04/03/25 | 90 FR 14595
NPRM Comment Period End | 04/18/25 |
Final Action | 07/00/25 |

Regulatory Flexibility Analysis Required: Yes

Agency Contact: Michael Pentony, Regional Administrator, Greater Atlantic Region, Department of Commerce, National Oceanic and Atmospheric Administration, 55 Great Republic Drive, Gloucester, MA 01930

Phone: 978 281-9283

Email: michael.pentony@noaa.gov

RIN: 0648-BN51

40. ATLANTIC HIGHLY MIGRATORY SPECIES; ELECTRONIC REPORTING REQUIREMENTS [0648-BM23]

Legal Authority: 16 U.S.C. 1801 et seq.; 16 U.S.C. 971 et seq.

Abstract: Atlantic highly migratory species (HMS) are managed under the authority of the Magnuson-Stevens Fishery Conservation and Management Act, 16 U.S.C. 1801 et seq., and the Atlantic Tunas Convention Act (ATCA), id. 971 et seq., the implementing statute for binding recommendations of the International Commission for the Conservation of Atlantic Tunas. NMFS proposed modifying and/or expanding reporting requirements for Atlantic HMS, including reporting by commercial, for-hire, and private recreational vessel owners and dealers. Specifically, the proposed action considered requiring vessel owners, who currently report in existing paper commercial logbooks (i.e., Atlantic HMS logbook and the Southeast Coastal Fisheries Logbook Program), to report electronically. NMFS also proposed implementing new logbook requirements for vessel owners holding HMS Charter/Headboat permits or Atlantic Tunas General category permits, Atlantic Tunas Harpoon category permits, and/or Swordfish General Commercial permits. The proposed action considered modifying reporting options for private recreational vessel owners holding HMS Angling permits. Additionally, the proposed rule considered requiring HMS dealers to report individual fish weights for additional species (i.e., Atlantic bigeye, albacore, yellowfin, and skipjack (BAYS) tunas, swordfish, and pelagic sharks). Under the proposed rule, all HMS reporting would become electronic, using systems or applications approved by NMFS for Atlantic HMS. Finally, the proposed action proposed technical changes to clarify certain HMS regulations. This action is being taken pursuant to the rulemaking authority under section 304(c) of the Magnuson-Stevens Fishery Conservation and Management Act. 16 U.S.C. 1854(c). The proposed rule comment period ended in January 2025. The comments received provide helpful feedback on the potential proposed measures, which are under consideration by the Agency. The Agency's final actions for this rulemaking will be based in part on feedback and public comments received on the proposed rule.

Timetable:

Action | Date | FR Cite
ANPRM | 05/12/23 | 88 FR 30699
ANPRM Comment Period End | 08/18/23 |
NPRM | 09/06/24 | 89 FR 72796
NPRM Comment Period End | 01/06/25 |
Final Action | 05/00/26 |

Regulatory Flexibility Analysis Required: Yes

Agency Contact: Kelly Denit, Director, Office of Sustainable Fisheries, Department of Commerce, National Oceanic and Atmospheric Administration, 1315 East-West Highway, Room 13362, Silver Spring, MD 20901

Phone: 301 427-8500

Email: kelly.denit@noaa.gov

RIN: 0648-BM23

41. SECRETARIAL AMENDMENT TO THE FISHERY MANAGEMENT PLAN FOR THE SNAPPER-GROUPER FISHERY OF THE SOUTH ATLANTIC REGION TO END OVERFISHING OF RED SNAPPER [0648-BN31]

Legal Authority: 16 U.S.C. 1801 et seq.

Abstract: The National Marine Fisheries Service (NMFS) proposes regulations to implement the Secretarial Amendment pursuant to section 304(c)(1)(A) of the Magnuson-Stevens Fishery Conservation and Management Act. The most recent stock assessment for red snapper (Southeast Data, Assessment, and Review 73, 2021) indicated that red snapper is overfished and undergoing overfishing, but the stock is making adequate progress towards rebuilding. In July 2021, NMFS sent a letter to the South Atlantic Fishery Management Council (Council) stating that red snapper were overfished and that a plan to end overfishing of the red snapper stock needed to be developed and implemented. The Council developed Regulatory Amendment 35 to the Fishery Management Plan for the Snapper-Grouper Fishery of the South Atlantic Region (Regulatory Amendment 35) and if implemented, it would have reduced the catch levels of red snapper, but it would not have ended overfishing. The Council considered the results of a recent pilot study on the possible overestimation of recreational fishing effort, and Council members expressed their individual concerns with Regulatory Amendment 35. The Council rescinded its final action to submit Regulatory Amendment 35 to NMFS for implementation and no regulations are in place to end overfishing. On June 14, 2024, NMFS implemented interim measures to reduce overfishing by temporarily reducing the catch limits for red snapper (89 FR 50350), and these measures are effective through December 11, 2024. The Secretarial Amendment will evaluate a range of alternatives for setting and managing catch for South Atlantic red snapper to end overfishing and support rebuilding objectives of the stock. The Secretarial Amendment would also explore management strategies to increase fishing opportunities for red snapper by transitioning the large number of dead recreational discards to landed catch. NMFS will develop an environmental impact statement (EIS) to describe and analyze alternatives to address the management needs previously described, including the current or no action alternatives. Possible actions that NMFS may consider to include in the EIS are, but are not limited to adjusting catch levels, adjusting accountability measures, and discard reduction measures. Based on a potential range of actions and alternatives, including dead discard reduction seasons and areas, and prior to conducting any actual economic effects analysis, NMFS believes this rule may adversely affect all sectors and components of the South Atlantic Snapper-Grouper fishery. This would include owners and crew of commercial fishing vessels, charter vessels and headboats, seafood dealers, and recreational anglers. Onshore support businesses such as bait and tackle shops may also be adversely affected. The magnitude of these effects will be determined by the breadth and duration of proposed management measures aimed at reducing red snapper dead discards.

Timetable:

Action | Date | FR Cite
NPRM | 01/14/25 | 90 FR 3160
NPRM Comment Period End | 03/17/25 |
Final Action | 07/00/25 |

Regulatory Flexibility Analysis Required: Yes

Agency Contact: Andrew J. Strelcheck, Regional Administrator, Southeast Region, Department of Commerce, National Oceanic and Atmospheric Administration, 263 13th Avenue South, St. Petersburg, FL 33701

Phone: 727 824-5305

Email: andy.strelcheck@noaa.gov

RIN: 0648-BN31

42. AMENDMENT 34 TO THE PACIFIC COAST GROUNDFISH FISHERY MANAGEMENT PLAN—CORAL RESEARCH AND RESTORATION [0648-BN15]

Legal Authority: 16 U.S.C. 1801 et seq.

Abstract: In accordance with a recommendation from the Pacific Fishery Management Council (Council) at their June 2024 meeting, and under the authority of the Magnuson-Stevens Fishery Conservation and Management Act, the National Marine Fisheries Service (NMFS) West Coast Region proposes to implement a closure to commercial groundfish bottom contact gear in the Monterey Bay National Marine Sanctuary (MBNMS). Specifically, NMFS proposes to implement a groundfish exclusion area for the purposes of coral research and restoration within the MBNMS at the site of Sur Ridge. The purpose of this action is to close the Sur Ridge site within the National Marine Sanctuaries off California to commercial groundfish bottom contact gear in order to protect future deep-sea coral research and restoration projects from the impact of fishing gear. The coral research and restoration projects are intended to restore injuries to natural resources, habitat, and biota resulting from the sinking of the drydock YFD-70 at Pioneer Canyon in the MBNMS, on October 26, 2016. This action is being taken as a result of substantial public engagement through the Pacific Fishery Management Council.

Timetable:

Action | Date | FR Cite
NPRM | 10/23/24 | 89 FR 84511
NPRM Comment Period End | 11/22/24 |
Final Action | 07/00/25 |

Regulatory Flexibility Analysis Required: Yes

Agency Contact: Jennifer Quan, Regional Administrator—West Coast Region, Department of Commerce, National Oceanic and Atmospheric Administration, DC 20230

Phone: 562 980-4001

Email: jennifer.quan@noaa.gov

RIN: 0648-BN15

43. • MAGNUSON-STEVENS ACT PROVISIONS; FISHERIES OFF WEST COAST STATES; PACIFIC COAST GROUNDFISH FISHERY; 2025 HARVEST SPECIFICATIONS FOR PACIFIC WHITING, AND 2025 PACIFIC WHITING TRIBAL ALLOCATION [0648-BN47]

Legal Authority: 16 U.S.C. 1801 et seq.

Abstract: This rule would establish the 2025 harvest specifications and allocations for Pacific Whiting. Through this rulemaking, NMFS would announce the intent to establish a U.S. Total Allowable Catch (TAC) level determined under the terms of the Agreement with Canada on Pacific Hake/Whiting (Agreement) and the Pacific Whiting Act of 2006 (Whiting Act) and apply the interim percent allocation for the Tribal fishery and set-asides (off the top deductions) for research and bycatch to determine the fishery harvest guideline, called the non-Tribal allocation, and sector allocations for three commercial whiting sectors. As in prior years, the Tribal allocation is not intended to set a precedent for future years. This action would be implemented pursuant to the rulemaking authority under the Magnuson-Stevens Fishery Conservation and Management Act (MSA) 304(b) and MSA section 305(d), and the Pacific Whiting Act of 2006. Pursuant to MSA section 304(b), this action would implement a recommendation from the Pacific Fishery Management Council at their November 2024 meeting for the 2025 Pacific whiting set-aside for research and bycatch. Pursuant to MSA section 305(d), this action would implement the annual Pacific whiting Treaty allocation and is necessary to ensure that the Pacific Coast Groundfish Fishery Management Plan is implemented in a manner consistent with treaty rights of four Treaty Tribes to fish in their usual and accustomed grounds and stations in common with non-tribal citizens. United States v. Washington, 384 F. Supp. 313 (W.D. Wash. 1974). Pursuant to the Pacific Whiting Act of 2006, this action would announce the U.S. TAC level, and subsequent non-discretionary sector allocations. The harvest specifications that would be implemented by this action would be in effect for the Pacific Whiting fishery that opens May 01, 2025 through December 31, 2025.

Timetable:

Action | Date | FR Cite
NPRM | 04/15/25 | 90 FR 15675
NPRM Comment Period End | 04/30/25 |
Final Action | 07/00/25 |

Regulatory Flexibility Analysis Required: Yes

Agency Contact: Jennifer Quan, Regional Administrator—West Coast Region, Department of Commerce, National Oceanic and Atmospheric Administration, DC 20230

Phone: 562 980-4001

Email: jennifer.quan@noaa.gov

RIN: 0648-BN47

Department of Commerce (DOC): National Oceanic and Atmospheric Administration (NOAA) | Long-Term Actions

NATIONAL MARINE FISHERIES SERVICE

44. ENDANGERED AND THREATENED WILDLIFE AND PLANTS; PROTECTIVE REGULATIONS FOR THE OCEANIC WHITETIP SHARK (CARCHARHINUS LONGIMANUS) [0648-BM49]

Legal Authority: 16 U.S.C. 1533

Abstract: We propose protective regulations under section 4(d) of the Endangered Species Act (ESA) for the conservation of the threatened oceanic whitetip shark (Carcharhinus longimanus). The prohibitions listed under section 9(a)(1) of the ESA automatically apply when a species is listed as endangered. In the case of a species listed as threatened, the first sentence of section 4(d) provides that the Secretary of Commerce (Secretary) shall issue such regulations as deemed necessary and advisable to provide for the conservation of the species. The second sentence of section 4(d) states that the Secretary may by regulation prohibit with respect to any threatened species any or all acts prohibited under section 9(a)(1). The final rule to list the oceanic whitetip shark as a threatened species under the ESA became effective March 1, 2018 (83 FR 4153; January 30, 2018) and protective regulations for the species were not adopted at that time. There is increasing concern regarding the population-level impacts of ongoing take (intentional in some cases) of oceanic whitetip sharks both in the U.S. Pacific and Atlantic since the listing, which is legally allowed to occur in the absence of protective regulations. For this reason, we are now proposing to apply all of the prohibitions listed under ESA sections 9(a)(1)(A) through 9(a)(1)(G) to the species with limited exceptions for scientific research and law enforcement purposes.

Timetable:

Action | Date | FR Cite
NPRM | 05/14/24 | 89 FR 41917
NPRM Comment Period End | 07/15/24 |
NPRM Comment Period Extended | 07/11/24 | 89 FR 56847
NPRM Comment Period Extension End | 09/15/24 |
Final Action | 07/00/26 |

Regulatory Flexibility Analysis Required: Yes

Agency Contact: Kim Damon-Randall

Phone: 301 427-8400

Email: kimberly.damon-randall@noaa.gov

RIN: 0648-BM49

45. ENDANGERED AND THREATENED WILDLIFE AND PLANTS; PROTECTIVE REGULATIONS FOR THE GIANT MANTA RAY (MOBULA BIROSTRIS) [0648-BN07]

Legal Authority: 16 U.S.C. 1533

Abstract: We propose protective regulations under section 4(d) of the Endangered Species Act (ESA) for the conservation of the giant manta ray (Mobula birostris). The prohibitions listed under section 9(a)(1) of the ESA automatically apply when a species is listed as endangered. In the case of a species listed as threatened, the first sentence of section 4(d) provides that the Secretary of Commerce (Secretary) shall issue such regulations as deemed necessary and advisable to provide for the conservation of the species. The second sentence of section 4(d) states that the Secretary may by regulation prohibit with respect to any threatened species any or all acts prohibited under section 9(a)(1). The final rule to list the giant manta ray as a threatened species under the ESA was published on January 22, 2018, and became effective February 21, 2018 (83 FR 2916). Protective regulations for the species were not adopted at that time. Since the publication of the final rule, new information has revealed that giant manta ray bycatch occurs in many U.S. fisheries, including likely high levels of at-vessel and post-release mortality. While the most significant threat to the giant manta ray is overutilization primarily by artisanal fisheries operating in areas outside of U.S. jurisdiction, we are proposing to apply the section 9 prohibitions to the species to reduce and mitigate fisheries-related mortality resulting from bycatch in U.S. fisheries. We are proposing limited exceptions to the prohibitions for scientific research and emergency response and salvage activities.

Timetable:

Action | Date | FR Cite
NPRM | 07/00/26 |

Regulatory Flexibility Analysis Required: Yes

Agency Contact: Kim Damon-Randall

Phone: 301 427-8400

Email: kimberly.damon-randall@noaa.gov

RIN: 0648-BN07

46. MAGNUSON-STEVENS FISHERIES CONSERVATION AND MANAGEMENT ACT; TRACEABILITY INFORMATION PROGRAM FOR SEAFOOD [0648-BH87]

Legal Authority: 16 U.S.C. 1801 et seq.; Pub. L. 115-141

Abstract: On December 9, 2016, NMFS issued a final rule that established a risk-based traceability program to track seafood from harvest to entry into U.S. commerce. The final rule included, for designated priority fish species, import permitting and reporting requirements to provide for traceability of seafood products offered for entry into the U.S. supply chain, and to ensure that these products were lawfully acquired and are properly represented. Shrimp and abalone products were included in the final rule to implement the Seafood Import Monitoring Program, but compliance with Seafood Import Monitoring Program requirements for those species was stayed indefinitely due to the disparity between Federal reporting programs for domestic aquaculture of shrimp and abalone products relative to the requirements that would apply to imports under the Seafood Import Monitoring Program. In section 539 of the Consolidated Appropriations Act, 2018, Congress mandated lifting the stay on inclusion of shrimp and abalone in Seafood Import Monitoring Program and authorized the Secretary of Commerce to require comparable reporting and recordkeeping requirements for domestic aquaculture of shrimp and abalone. Following due consideration of necessary revisions or rescissions as directed by E.O. 14276 Restoring American Seafood Competitiveness, a rulemaking addressing the above issues may establish permitting, reporting and recordkeeping requirements for domestic producers of shrimp and abalone from the point of production to entry into commerce.

Timetable:

Action | Date | FR Cite
NPRM | 10/11/18 | 83 FR 51426
NPRM Comment Period End | 11/26/18
Final Action | To Be Determined

Regulatory Flexibility Analysis Required: Yes.

Agency Contact: Alexa Cole

Phone: 301 427-8286

Email: alexa.cole@noaa.gov

RIN: 0648-BH87

47. ATLANTIC HIGHLY MIGRATORY SPECIES; RESEARCH AND DATA COLLECTION IN SUPPORT OF SPATIAL FISHERIES MANAGEMENT [0648-BI10]

Legal Authority: 16 U.S.C. 1801 et seq.

Abstract: This rule addresses conducting research in areas currently closed to fishing for Atlantic highly migratory species (HMS)—during various times or by certain gear—to collect fishery-dependent data. A number of time/area closures or gear-restricted areas have been implemented over the years through various rulemakings, limiting fishing for Atlantic highly migratory species in those areas for a variety of reasons including reducing bycatch. These time/area closures have been implemented in consultation with the HMS Advisory Panel to protect species consistent with the Magnuson-Stevens Fisheries Conservation and Management Act (e.g., to reduce bycatch in the pelagic longline fishery off the east coast of Florida), the Endangered Species Act (e.g., to protect sea turtles in the North Atlantic), and the Atlantic Tunas Convention Act (e.g., to protect spawning bluefin tuna in the Gulf of America). Fishery-dependent data supports effective fisheries management, and areas that restrict fishing effort often have a commensurate decrease in fishery-dependent data collection. Programs to facilitate research and data collection, such as those that would be covered by this rule, could assess the efficacy of closed areas, improve sustainable management of highly migratory species, and may provide benefits to commercial and recreational fishermen. The Agency's final actions for this rule are based in part on feedback and public comments on the proposed rule and draft environmental impact statement, regulatory impact review (RIR), and initial regulatory flexibility analysis (IRFA). The comment period ended in October 2023. The comments received to date provide helpful feedback on the potential issues and ways forward. This rulemaking originated because of numerous requests from the public to reconsider closed areas. The measures in the proposed rule were developed after numerous scoping meetings and after considering written comments.

Timetable:

Action | Date | FR Cite
NPRM | 05/05/23 | 88 FR 29050
NPRM Comment Period Extension | 09/08/23 | 88 FR 62044
NPRM Comment Period End | 09/15/23 |
NPRM Comment Period Extension End | 10/02/23 |
Final Action | To Be Determined

Regulatory Flexibility Analysis Required: Yes

Agency Contact: Kelly Denit

Phone: 301 427-8500

Email: kelly.denit@noaa.gov

RIN: 0648-BI10

48. INTERNATIONAL FISHERIES; SOUTH PACIFIC TUNA FISHERIES; IMPLEMENTATION OF AMENDMENTS TO THE SOUTH PACIFIC TUNA TREATY [0648-BG04]

Legal Authority: 16 U.S.C. 973 et seq.

Abstract: Under authority of the South Pacific Tuna Act of 1988, this rule would implement recent amendments to the Treaty on Fisheries between the Governments of Certain Pacific Island States and the Government of the United States of America (also known as the South Pacific Tuna Treaty). The rule would include modification to the procedures used to request licenses for U.S. vessels in the western and central Pacific Ocean purse seine fishery, including changing the annual licensing period from June-to-June to the calendar year, and modifications to existing reporting requirements for purse seine vessels fishing in the western and central Pacific Ocean. The rule would implement only those aspects of the Treaty amendments that can be implemented under the existing South Pacific Tuna Act.

Timetable:

Action | Date | FR Cite
NPRM | To Be Determined

Regulatory Flexibility Analysis Required: Yes

Agency Contact: Sarah Malloy

Phone: 808 725-5000

Email: sarah.malloy@noaa.gov

RIN: 0648-BG04

49. INTERNATIONAL FISHERIES; WESTERN AND CENTRAL PACIFIC FISHERIES FOR HIGHLY MIGRATORY SPECIES; FISHING EFFORT LIMITS IN PURSE SEINE FISHERIES [0648-BL25]

Legal Authority: 16 U.S.C. 6901 et seq.

Abstract: Under authority of the Western and Central Pacific Fisheries Convention Implementation Act (16 U.S.C. 6901 et seq.), NMFS is implementing fishing effort limits for the U.S. purse seine fishery operating in the western and central Pacific Ocean (WCPO). Regulations at 50 CFR 300.223(a) currently limit U.S. WCPO purse seine fishing effort in a combined area of the high seas and U.S. exclusive economic zone (EEZ). Based on recent decisions of the Commission for the Conservation and Management of Highly Migratory Fish Stocks in the Western and Central Pacific Ocean, this rule implements separate U.S. WCPO purse seine fishing effort limits for the high seas and U.S. EEZ. This rule could have some economic effects on U.S. purse seine vessels, as the separate effort limits would reduce the operational flexibility provided by the combined effort limits. This rule could also have some economic effects on American Samoa, as the separate limits could lead to a fishery closure earlier in the year than under the combined limits, which could reduce fish supply to the cannery based in American Samoa. Other elements of this rule include modifications to the process for closing the fishery once an effort limit is reached, and modifications to the procedures for obtaining daily purse seine fishing effort reports.

Timetable:

Action | Date | FR Cite
NPRM | 09/12/22 | 87 FR 55768
NPRM Comment Period End | 10/03/22 |
Final Action | To Be Determined

Regulatory Flexibility Analysis Required: Yes

Agency Contact: Sarah Malloy

Phone: 808 725-5000

Email: sarah.malloy@noaa.gov

RIN: 0648-BL25

50. • LIMITING GEAR SWITCHING IN THE PACIFIC COAST GROUNDFISH SHOREBASED INDIVIDUAL FISHING QUOTA PROGRAM [0648-BN56]

Legal Authority: 16 U.S.C. 1801 et seq.

Abstract: The Pacific Fishery Management Council (Council) recommended limiting the ability for participants in the West Coast groundfish trawl catch share program (Program) to use non-trawl gear types to prosecute the trawl fishery (termed gear switching). The Council recommends that NMFS issue gear-specific quota pounds for northern sablefish in years where the northern sablefish annual catch limit is below 6,000 metric tons. Sablefish is a vital target and co-occurring species in the Program. This action is proposed because the use of quota for northern sablefish by participants engaging in gear switching may lead to uncertainty in access to sablefish and other species, such as Dover sole, by vessels using trawl gear. This uncertainty may inhibit the development of markets and infrastructure necessary to achieve optimum yield in the fishery, and the Program's economic and community stability goals. The purpose of this action would be to help stabilize the trawl fishery by limiting gear switching for northern sablefish in years of relatively low abundance, while maximizing gear flexibility and harvest opportunity in years of greater abundance. An Advance Notice of Proposed Rulemaking, published on April 26, 2018 (0648-BH34), announced that the Council may or may not provide credit for any gear switching related activities, after a control date of after September 15, 2017, in any decision setting limits on gear switching. In its recommended action, the Council incorporated considerations of historical participation and quota ownership. Its recommendation included a control date to allow higher levels of gear switching, for qualifying participants, in years when gear switching would be limited.

Timetable:

Action | Date | FR Cite
NPRM | 07/00/26 |

Regulatory Flexibility Analysis Required: Yes

Agency Contact: Jennifer Quan, Regional Administrator—West Coast Region, Department of Commerce, National Oceanic and Atmospheric Administration, DC 20230

Phone: 562 980-4001

Email: jennifer.quan@noaa.gov

RIN: 0648-BN56

Department of Commerce (DOC): National Oceanic and Atmospheric Administration (NOAA) | Completed Actions

51. AMENDMENTS TO THE NORTH ATLANTIC RIGHT WHALE VESSEL STRIKE REDUCTION RULE [0648-BI88]

Legal Authority: 16 U.S.C. 1361 et seq.; 16 U.S.C. 1531 et seq.

Abstract: NMFS published a proposed rule to amend the North Atlantic Right Whale Vessel Strike Reduction Rule (per 50 CFR 224.105; 87 FR 46921, August 1, 2022). NMFS proposed this action to further reduce the likelihood of mortalities and serious injuries to endangered right whales from vessel collisions, which are a leading cause of the species' decline and a primary factor in an ongoing Unusual Mortality Event. The final rule will (1) modify the spatial and temporal boundaries of current speed restriction areas, currently referred to as Seasonal Management Areas (SMAs), (2) include most vessels greater than or equal to 35 ft (10.7 m) and less than 65 ft (19.8 m) in length in the vessel size class subject to speed restriction, (3) create a Dynamic Speed Zone framework to implement mandatory speed restrictions when whales are known to be present outside active SMAs, and (4) update the speed rule's safety deviation provision. The final amendments to current speed regulations reduce vessel strike risk based on a coast wide collision mortality risk assessment and updated information on right whale distribution, vessel traffic patterns, and vessel strike mortality and serious injury events. NMFS solicited public comment on the proposed action and received over 90,000 public comments. The agency withdrew this proposed rule on January 16, 2025.

Timetable:

Action | Date | FR Cite
NPRM | 08/01/22 | 87 FR 46921
NPRM Comment Period End | 09/30/22 |
NPRM Comment Period Extension | 09/16/22 | 87 FR 56925
NPRM Comment Period Extension End | 10/31/22 |
Withdrawn | 01/16/25 | 90 FR 4711

Regulatory Flexibility Analysis Required: Yes

Agency Contact: Kim Damon-Randall, Director, Office of Protected Resources, Department of Commerce, National Oceanic and Atmospheric Administration, 1315 East-West Highway, Silver Spring, MD 20910

Phone: 301 427-8400

Email: kimberly.damon-randall@noaa.gov

RIN: 0648-BI88

52. ESTABLISHMENT OF TIME-AREA CLOSURES FOR HAWAIIAN SPINNER DOLPHINS UNDER THE MARINE MAMMAL PROTECTION ACT [0648-BK04]

Legal Authority: 16 U.S.C. 1382 et seq.

Abstract: This action under the Marine Mammal Protection Act (MMPA) will establish mandatory time-area closures of Hawaiian spinner dolphins' essential daytime habitats at five selected sites in the Main Hawaiian Islands (MHI). In considering public comments in response to a separate proposed rule related to spinner dolphin interactions (81 FR 57854), NMFS intends these regulatory measures to prevent take of Hawaiian spinner dolphins from occurring in inshore marine areas at essential daytime habitats, and where high levels of disturbance from human activities are most prevalent.

Timetable:

Action | Date | FR Cite
NPRM | 09/28/21 | 86 FR 53844
NPRM Comment Period End | 12/27/21 |
Withdrawn | 05/09/25 |

Regulatory Flexibility Analysis Required: Yes

Agency Contact: Kim Damon-Randall, Director, Office of Protected Resources, Department of Commerce, National Oceanic and Atmospheric Administration, 1315 East-West Highway, Silver Spring, MD 20910

Phone: 301 427-8400

Email: kimberly.damon-randall@noaa.gov

RIN: 0648-BK04

53. ILLEGAL, UNREPORTED, AND UNREGULATED FISHING; FISHERIES ENFORCEMENT; HIGH SEAS DRIFTNET FISHING MORATORIUM PROTECTION ACT [0648-BG11]

Legal Authority: Pub. L. 114-81

Abstract: This proposed rule would make conforming amendments to regulations implementing the various statutes amended by the Illegal, Unreported and Unregulated Fishing Enforcement Act of 2015 (Pub. L. 114-81). The Act amends several regional fishery management organization implementing statutes as well as the High Seas Driftnet Fishing Moratorium Protection Act. It also provides authority to implement two new international agreements under the Antigua Convention, which amends the Convention for the establishment of an Inter-American Tropical Tuna Commission, and the United Nations Food and Agriculture Organization Agreement on Port State Measures to Prevent, Deter, and Eliminate Illegal, Unreported and Unregulated Fishing (Port State Measures Agreement), which restricts the entry into U.S. ports by foreign fishing vessels that are known to be or are suspected of engaging in illegal, unreported, and unregulated fishing. This proposed rule would also implement the Port State Measures Agreement. To that end, this proposed rule would require the collection of certain information from foreign fishing vessels requesting permission to use U.S. ports. It also includes procedures to designate and publicize the ports to which foreign fishing vessels may seek entry and procedures for conducting inspections of these foreign vessels accessing U.S. ports. Further, the rule would establish procedures for notification of: the denial of port entry or port services for a foreign vessel, the withdrawal of the denial of port services if applicable, the taking of enforcement action with respect to a foreign vessel, or the results of any inspection of a foreign vessel to the flag nation of the vessel and other competent authorities as appropriate.

Timetable:

Action | Date | FR Cite
NPRM | 07/08/22 | 87 FR 40763
NPRM Comment Period End | 09/06/22 |
Withdrawn | 01/16/25 | 90 FR 4710

Regulatory Flexibility Analysis Required: Yes

Agency Contact: Alexa Cole, Director, Office of International Affairs, Trade, and Commerce, Department of Commerce, National Oceanic and Atmospheric Administration, 1315 East-West Highway, Silver Spring, MD 20910

Phone: 301 427-8286

Email: alexa.cole@noaa.gov

RIN: 0648-BG11

54. NOTICE OF PROPOSED RULEMAKING FOR THE DESIGNATION PACIFIC REMOTE ISLANDS NATIONAL MARINE SANCTUARY [0648-BM52]

Legal Authority: 16 U.S.C. 1431 et seq.

Abstract: NOAA's Office of National Marine Sanctuaries is developing a proposed rule designating a national marine sanctuary in the waters surrounding the Pacific Remote Islands. This proposed rule for designation under the National Marine Sanctuaries Act would supplement the existing National Marine Monument and further protect and conserve the natural environment and cultural heritage of the Pacific Remote Islands for future generations.

Timetable:

Action | Date | FR Cite
Notice | 04/18/23 | 88 FR 23624
Comment Period End | 06/02/23 |
Withdrawn | 04/14/25 |

Regulatory Flexibility Analysis Required: Yes

Agency Contact: Jessica Kondel, Policy and Planning Division Chief, Department of Commerce, National Oceanic and Atmospheric Administration, 1305 East West Highway, Building SSMC4, Silver Spring, MD 20910

Phone: 240 676-4646

RIN: 0648-BM52

Department of Commerce (DOC): Patent and Trademark Office (PTO) | Proposed Rule Stage

55. • SETTING AND ADJUSTING PATENT FEES [0651-AD88]

Legal Authority: Pub. L. 112-29

The United States Patent and Trademark Office (USPTO or Office) takes this action to set and adjust Patent fee amounts to provide the Office with sufficient aggregate revenue to recover its aggregate cost of operations thereby maintaining a sustainable funding model.

Timetable:

Action | Date | FR Cite
NPRM | 12/00/25 |
NPRM Comment Period End | 02/00/26 |
Final Action | 07/00/26 |
Final Action Effective | 10/00/26 |

Regulatory Flexibility Analysis Required: Yes

Agency Contact: C. Brett Lockard, Director, Forecasting and Analysis, Department of Commerce, Patent and Trademark Office, P.O. Box 1450, Alexandria, VA 22313-1450

Phone: 571 272-0928

Email: christopher.lockard@uspto.gov

RIN: 0651-AD88

Department of Commerce (DOC): Patent and Trademark Office (PTO) | Completed Actions

56. SETTING AND ADJUSTING PATENT FEES DURING FISCAL YEAR 2025 [0651-AD64]

Legal Authority: Pub. L. 112-29

Abstract: The United States Patent and Trademark Office (USPTO or Office) takes this action to set and adjust Patent fee amounts to provide the Office with sufficient aggregate revenue to recover its aggregate cost of operations thereby maintaining a sustainable funding model. The new fee amounts will provide the Office with additional resources to decrease patent pendency and ensure robust and reliable patent rights. The fee adjustments made in this final rule took effect on January 19, 2025

Timetable:

Action | Date | FR Cite
NPRM | 04/03/24 | 89 FR 23226
NPRM Comment Period End | 06/03/24 |
Final Action | 11/20/24 | 89 FR 91898
Final Action Correction | 01/14/25 | 90 FR 3036
Final Action Correction Effective | 01/19/25 |
Final Action Effective | 01/19/25 |

Regulatory Flexibility Analysis Required: Yes

Agency Contact: C. Brett Lockard, Director, Forecasting and Analysis, Department of Commerce, Patent and Trademark Office, P.O. Box 1450, Alexandria, VA 22313-1450

Phone: 571 272-0928

Email: christopher.lockard@uspto.gov

RIN: 0651-AD64

[FR Doc. 2025-18325 Filed 9-19-25; 8:45 am]

BILLING CODE 3410-12-P